DEPARTMENT OF THE INTERIOR

Bureau of Land Management

[AZ-910-0777-XP-241A]

State of Arizona Resource Advisory Council Meeting

AGENCY: Bureau of Land Management, Interior.

ACTION: Arizona Resource Advisory Council meeting notice.

SUMMARY: This notice announces a meeting and tour of the Arizona Resource Advisory Council (RAC).

The business meeting will be held on August 18, 2004, at the Bureau of Land Management National Training Center located at 9828 North 31st Avenue, Phoenix, Arizona. It will begin at 9 a.m. and conclude at 4 p.m. The agenda items to be covered include: Review of the May 26, 2004, Meetings Minutes; BLM State Director's Update on Statewide Issues; Presentations on BLM Stewardship Contracting; BLM Antiquities Act Celebration Update; University of Arizona Project on Collecting and Interpreting Rangeland Monitoring Data; and Arizona Land Use Planning Updates; RAC Questions on Written Reports from BLM Field Managers; Field Office Rangeland Resource Team Proposals; Reports by the Standards and Guidelines, Recreation, Off-Highway Vehicle Use, Public Relations, Land Use Planning and Tenure, and Wild Horse and Burro Working Groups; Reports from RAC members; and Discussion of future meetings. A public comment period will be provided at 11:30 a.m. on August 18, 2004, for any interested publics who wish to address the Council.

FOR FURTHER INFORMATION CONTACT: Deborah Stevens, Bureau of Land Management, Arizona State Office, 222 North Central Avenue, Phoenix, Arizona 85004-2203, (602) 417-9215.

Lonna O'Neal,
Acting Arizona State Director.

[FR Doc. 04-16547 Filed 7-20-04; 8:45 am]

BILLING CODE 4310-32-M